DEPARTMENT OF JUSTICE

Notice of Lodging of Proposed Consent Decree Under the Clean Water Act

On October 31, 2018, the Department of Justice lodged a proposed Consent Decree with the United States District Court for the Western District of Louisiana in the lawsuit entitled United States and Louisiana Department of Environmental Quality v. Evangeline Enterprises LLC, Civil Action No. 17-01340.

In this action, the United States, on behalf of the U.S. Environmental Protection Agency, together with the Louisiana Department of Environmental Quality (“LDEQ”), sought penalties and injunctive relief under the Clean Water Act and the Louisiana Environmental Quality Act against Evangeline Enterprises LLC (“Evangeline”) for continuous unauthorized discharges of pollutants from Evangeline's race horse training facility in Carencro, Louisiana to waters of the United States and waters of the State of Louisiana. The proposed Consent Decree will resolve the claims alleged by the United States and LDEQ and requires Evangeline to pay $300,000 in civil penalties and perform injunctive relief to bring its facility into compliance with applicable federal and state laws and regulations to prevent future discharges to area waterways.

The publication of this notice opens a period for public comment on the proposed Consent Decree. Comments should be addressed to the Assistant Attorney General, Environment and Natural Resources Division, and should refer to United States and Louisiana Department of Environmental Quality v. Evangeline Enterprises LLC, D.J. Ref. No. 90-5-1-1-11485. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $10.75 (25 cents per page reproduction cost) payable to the United States Treasury.

Thomas Carroll,
Assistant Section Chief, Environmental Enforcement Section, Environment and Natural Resources Division.

[FR Doc. 2018-24606 Filed 11-8-18; 8:45 am]

BILLING CODE 4410-15-P